GENERAL SERVICES ADMINISTRATION

[OMB Control No. 3090-0262; Docket 2015-0001; Sequence 9]

General Services Administration Acquisition Regulation; Submission for OMB Review; Identification of Products With Environmental Attributes

AGENCY: Office of Acquisition Policy, General Services Administration (GSA).

ACTION: Notice of request for comments regarding an extension of a previously existing OMB clearance.

SUMMARY: Under the provisions of the Paperwork Reduction Act the Regulatory Secretariat Division will be submitting to the Office of Management and Budget (OMB) a request to review and approve an extension of a previously approved information collection requirement regarding identification of products with environmental attributes. A notice was published in the Federal Register at 80 FR 22351 on April 28, 2015. No comments were received.

DATES: Submit comments on or before: August 21, 2015.

ADDRESSES: Submit comments identified by Information Collection 3090-0262, Identification of Products with Environmental Attributes, by any of the following methods:

• Regulations.gov: http://www.regulations.gov. Submit comments via the Federal eRulemaking portal by inputting “Information Collection 3090-0262, Identification of Products with Environmental Attributes”, under the heading “Enter Keyword or ID” and selecting “Search”. Select the link “Submit a Comment” that corresponds with “Information Collection 3090-0262, Identification of Products with Environmental Attributes”. Follow the instructions provided at the “Submit a Comment” screen. Please include your name, company name (if any), and “Information Collection 3090-0262, Identification of Products with Environmental Attributes” on your attached document.

• Mail: General Services Administration, Regulatory Secretariat Division (MVCB), 1800 F Street, NW., Washington, DC 20405. ATTN: Ms. Flowers/IC 3090-0262, Identification of Products with Environmental Attributes.

Instructions: Please submit comments only and cite Information Collection 3090-0262, Identification of Products with Environmental Attributes, in all correspondence related to this collection. All comments received will be posted without change to http://www.regulations.gov, including any personal and/or business confidential information provided.

FOR FURTHER INFORMATION CONTACT: Ms. Dana Munson, Procurement Analyst, General Services Acquisition Policy Division, GSA, at telephone 202-357-9652 or via email to dana.munson@gsa.gov.

SUPPLEMENTARY INFORMATION:

A. Purpose

The General Services Administration (GSA) requires contractors holding Multiple Award Schedule Contracts to identify in their GSA price lists those products that they market commercially that have environmental attributes in accordance with GSAR clause 552.238-72. The identification of these products will enable Federal agencies to maximize the use of these products and meet the responsibilities expressed in statutes and executive orders.

B. Annual Reporting Burden

Respondents: 9,000.

Responses per Respondent: 1.

Annual Responses: 9,000.

Hours per Response: 1.

Total Burden Hours: 9,000.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the Regulatory Secretariat Division (MVCB), 1800 F Street NW., Washington, DC 20405, telephone 202-501-4755. Please cite OMB Control No. 3090-0262, Identification of Products with Environmental Attributes, in all correspondence.

Dated: July 16, 2015.
Jeffrey A. Koses,
Senior Procurement Executive, Director, Office of Acquisition Policy.

[FR Doc. 2015-17904 Filed 7-21-15; 8:45 am]

BILLING CODE 6820-61-P